DEPARTMENT OF THE INTERIOR

Fish and Wildlife Service

Notice of Availability of Draft Comprehensive Conservation Plan and Environmental Assessment for Arthur R. Marshall Loxahatchee National Wildlife Refuge in Palm Beach County, FL, and Notice of Meeting To Seek Public Comments on These Documents

SUMMARY: This notice advises the public that the U.S. Fish and Wildlife Service, Southeast Region, has made available for public review a Draft Comprehensive Conservation Plan and Environmental Assessment for Arthur R. Marshall Loxahatchee National Wildlife Refuge in Palm Beach County, Florida, and plans to hold a public meeting in the vicinity of the refuge to solicit public comments on these documents. The Service is furnishing this notice in compliance with Service comprehensive planning policy, the National Environmental Policy Act, and implementing regulations to achieve the following:

(1) Advise other agencies and the public of our intentions, and

(2) Obtain comments on the proposed plan and the other alternatives considered in the planning policy.

DATES: The Service will hold the public meeting at 6:30 p.m. on April 26, 2000, at the South County Civic Center, 16700 Jog Road, Delray Beach, Florida. The draft plan will be made available for review and comment. Written comments should be submitted no later than May 22, 2000, to the address below.

ADDRESSES: Comments and requests for copies of the draft plan and environmental assessment should be addressed to Mr. Mark J. Musaus, Refuge Manager, ARM Loxahatchee National Wildlife Refuge, 10216 Lee Road, Boynton Beach, Florida 33437-4796, or by calling 561/732-3684.

If you wish to comment, you may submit your comments by any one of several methods. You may mail comments to the above address. You may also comment via the Internet to the following address: Mark_Musaus@fws.gov. Please submit Internet comments as an ASCII file avoiding the use of special characters and any form of encryption. Please also include your name and return address in your Internet message. If you do not receive a confirmation from the system that we have received your Internet message, contact us directly at ARM Loxahatchee National Wildlife Refuge, at the above address. Finally, you may hand-deliver comments to the Refuge headquarters office at the above address. Our practice is to make comments, including names and home addresses of respondents, available for public review during regular business hours. Individual respondents may request that we withhold their home address from the rulemaking record, which we will honor to the extent allowable by law. There also may be circumstances in which we would withhold from the rulemaking record a respondent's identity, as allowable by law. If you wish us to withhold your name and/or address, you must state this prominently at the beginning of your comment. However, we will not consider anonymous comments. We will make all submissions from organizations or businesses, and from individuals identifying themselves as representatives or officials of organizations or businesses, available for public inspection in their entirety.

SUPPLEMENTARY INFORMATION: Arthur R. Marshall Loxahatchee National Wildlife Refuge, located 15 miles southwest of West Palm Beach, Florida, consists of 221 square miles of the remaining northern Everglades. The refuge is one of three large freshwater storage areas surrounded by levees and canals. These storage areas, built by the Army Corps of Engineers, were later placed under the jurisdiction of the South Florida Water Management District. The primary objectives of the refuge, established through an agreement between the Service and the South Florida Water Management District, is to maintain suitable habitat for a variety of wildlife native to the northern Everglades. By implementing the proposed comprehensive conservation plan, the refuge seeks to achieve the following four goals:

(1) Restore and conserve the natural diversity, abundance and ecological function of refuge flora and fauna;

(2) Conserve natural and cultural resources through partnerships, protection and acquisition from willing sellers;

(3) Develop and implement compatible wildlife-dependent recreation and environmental education programs that lead to enjoyable experiences and greater understanding of the Everglades; and

(4) Continue a partnership with the South Florida Water Management District through a new license agreement.

The Draft Comprehensive Conservation Plan/Environmental Assessment evaluates the following four alternatives for managing the refuge over the next 15 years: maintain current management; ecosystem emphasis; biological emphasis; and public use emphasis. The Fish and Wildlife Service believes that ecosystem emphasis is the best alternative to guide the refuge's future direction. In essence, this alternative will:

• Restore and maintain healthy water regimes;

• Reduce exotic and invasive plants;

• Expand the inventory and mapping of wildlife species and habitats;

• Enhance wildlife habitat for migratory and resident song birds; and

• Expand wildlife-dependent and other compatible recreation opportunities.

Dated: April 4, 2000.
Judy L. Jones,
Acting Regional Director.

[FR Doc. 00-8736 Filed 4-7-00; 8:45 am]

BILLING CODE 4310-55-M